DEPARTMENT OF ENERGY

Federal Energy Regulatory Commission

[Project No. 13371-000]

Town of West Stockbridge; Notice of Preliminary Permit Applications Accepted for Filing and Soliciting Comment, Motions To Intervene, and Competing Applications

April 7, 2009.

On February 9, 2009, Town of West Stockbridge filed an application, pursuant to section 4(f) of the Federal Power Act, proposing to study the feasibility of the Shaker Mill Dam Hydroelectric Project, to be located on the Williams River, in Berkshire County, Massachusetts.

The proposed Shaker Mill Dam Hydroelectric Project would be located at: (1) The existing 33-foot-long, 18.3-foot-high Shaker Mill Dam; (2) existing control works and discharge pipes; and (3) an existing 31.88-acre head pond with 198 acre-feet of storage.

The project would consist of: (1) A new powerhouse enclosing two new turbine generating units with a total installed capacity of 9.0 kilowatts; (2) a new 600 volt, transmission line connect to an existing above ground transformer and distribution system; and (3) appurtenant facilities. The Blue Heron Hydro LLC project would have an estimated average annual generation of 6.7 megawatt-hours, which would be sold to power marketers, local industrial users, or used by the applicant to offset current utility costs.

Applicant Contact: Town of West Stockbridge, c/o Curt G. Wilton, Chairman, Board of Selectman, 21State Line Rd., P.O. Box 525, West Stockbridge, MA 01266, phone (413) 232-0300 ext. 319.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13371) in the docket number field to access the document. For assistance, call toll-free 1-866-208-3372.

Kimberly D. Bose,
Secretary.

[FR Doc. E9-8458 Filed 4-13-09; 8:45 am]

BILLING CODE 6717-01-P